NATIONAL CREDIT UNION ADMINISTRATION

Sunshine Act; Notice of Agency Meeting

TIME AND DATE: 10 a.m., Friday, June 17, 2011.

PLACE: Board Room, 7th Floor, Room 7047, 1775 Duke Street (All visitors must use Diagonal Road Entrance), Alexandria, VA 22314-3428.

STATUS: Open.

MATTERS TO BE CONSIDERED: 1. Final Rule—Section 701.34 of NCUA's Rules and Regulations, Member Survey Sample Data to Meet Low-Income Designation.

2. Interim Final Rule—Part 750 of NCUA's Rules and Regulations, Technical Correction, Golden Parachutes and Indemnification Payments.

3. Advance Notice of Proposed Rulemaking—Part 703 of NCUA's Rules and Regulations, Derivatives.

4. Insurance Fund Report.

RECESS: 11:15 a.m.

TIME AND DATE: 11:30 a.m., Friday, June 17, 2011.

PLACE: Board Room, 7th Floor, Room 7047, 1775 Duke Street, Alexandria, VA 22314-3428.

STATUS: Closed.

MATTERS TO BE CONSIDERED: 1. Waiver Request pursuant to Section 704.1(b) of NCUA's Rules and Regulations. Closed pursuant to some or all of the following exemptions (4) and (6).

2. Consideration of Supervisory Activity. Closed pursuant to some or all of the following: exemptions (8), (9)(A)(ii) and 9(B).

3. Personnel (2). Closed pursuant to exemption (2).

FOR FURTHER INFORMATION CONTACT: Mary Rupp, Secretary of the Board, Telephone: 703-518-6304.

Mary Rupp,
Board Secretary.

[FR Doc. 2011-14891 Filed 6-10-11; 4:15 pm]

BILLING CODE P